DEPARTMENT OF ENERGY

Federal Energy Regulatory Commission

Notice of FERC Staff Attendance at the Entergy Regional State Committee Meeting

The Federal Energy Regulatory Commission (Commission) hereby gives notice that members of its staff may attend the meeting noted below. Their attendance is part of the Commission's ongoing outreach efforts.

Entergy Regional State Committee

August 19, 2016 (9:30 a.m.-12:30 p.m. Central)

This meeting will be held at the Capital Hotel, 111 West Markham St., Little Rock, AR 72201.

The discussions may address matters at issue in the following proceedings:

Docket No. EL95-33—Louisiana Public Service Commission et al. v. Entergy Corp. et al.

Docket No. EL00-66—Louisiana Public Service Commission, et al. v. Entergy Corp., et al.

Docket No. EL01-88—Louisiana Public Service Commission v. Entergy Services, Inc.

Docket No. EL09-61—Louisiana Public Service Commission v. Entergy Services, Inc.

Docket No. EL10-65—Louisiana Public Service Commission v. Entergy Services, Inc.

Docket No. EL14-19—Midcontinent Independent System Operator and Entergy Services, Inc.

Docket No. EL16-7—City of Osceola, Arkansas v. Entergy Arkansas, Inc.

Docket No. ER10-1350—Entergy Arkansas, Inc.

Docket No. ER13-432—Entergy Arkansas, Inc.

Docket No. ER13-948—Entergy Arkansas, Inc.

Docket No. ER13-1195—Entergy Arkansas, Inc.

Docket No. ER13-1508—Entergy Arkansas, Inc.

Docket No. ER13-1509—Entergy Gulf States Louisiana, L.L.C.

Docket No. ER13-1510—Entergy Louisiana, LLC.

Docket No. ER13-1511—Entergy Mississippi, Inc.

Docket No. ER13-1512—Entergy New Orleans, Inc.

Docket No. ER13-1513—Entergy Texas, Inc.

Docket No. ER14-649—Midcontinent Independent System Operator, Inc.

Docket No. ER14-693—Entergy Services, Inc.

Docket No. ER14-694—Entergy Services, Inc.

Docket No. ER14-695—Entergy Services, Inc.

Docket No. ER14-696—Entergy Services, Inc.

Docket No. ER14-697—Entergy Services, Inc.

Docket No. ER14-699—Entergy Services, Inc.

Docket No. ER14-700—Entergy Services, Inc.

Docket No. ER14-701—Entergy Services, Inc.

Docket No. ER14-702—Entergy Arkansas, Inc.

Docket No. ER14-703—Entergy Services, Inc.

Docket No. ER14-704—Entergy Services, Inc.

Docket No. ER14-1640—Entergy Gulf States Louisiana, L.L.C

Docket No. ER14-1641—Entergy Louisiana, LLC.

Docket No. ER14-1642—Entergy Mississippi, Inc.

Docket No. ER14-1643—Entergy New Orleans, Inc.

Docket No. ER14-1644—Entergy Texas, Inc.

Docket No. ER14-2850—Southwest Power Pool, Inc.

Docket No. ER14-2851—Southwest Power Pool, Inc.

Docket No. ER15-1436—Entergy Gulf States Louisiana, L.L.C.

Docket No. ER15-1453—Entergy Arkansas, Inc.

Docket No. ER15-1826—Entergy Services, Inc.

Docket No. ER16-227—Entergy Arkansas, Inc.

Docket No. ER16-1087—Entergy New Orleans, Inc.

Docket No. ER16-1251—Entergy Louisiana, LLC.

Docket No. ER16-1316—Entergy Services, Inc.

Docket No. ER16-1528—Entergy Arkansas, Inc.

Docket No. ER16-1806—Entergy Services, Inc.

Docket No. ER16-1965—Entergy Louisiana, LLC.

Docket No. ER16-2034—Entergy Louisiana, LLC.

Docket No. ER16-2124—Entergy New Orleans, Inc.

Docket No. ER16-2125—Entergy Louisiana, LLC.

Docket No. ER16-2199—Entergy Arkansas, Inc.

Docket No. ER16-2200—Midcontinent Independent System Operator, Inc.

These meetings are open to the public.

For more information, contact Patrick Clarey, Office of Energy Market Regulation, Federal Energy Regulatory Commission at (317) 249-5937 or patrick.clarey@ferc.gov.

Dated: August 11, 2016.
Nathaniel J. Davis, Sr.,
Deputy Secretary.

[FR Doc. 2016-19572 Filed 8-16-16; 8:45 am]

BILLING CODE 6717-01-P